DEPARTMENT OF DEFENSE

Office of the Secretary

Defense Innovation Board; Notice of Federal Advisory Committee Meeting

AGENCY: Under Secretary of Defense for Research & Engineering, Department of Defense (DoD).

ACTION: Notice of Federal Advisory Committee meeting.

SUMMARY: The DoD is publishing this notice to announce that the following Federal Advisory Committee meeting of the Defense Innovation Board (DIB) will take place.

DATES: Open to the public, Tuesday, September 15, 2020 from 12:30 p.m. to 2:30 p.m. Eastern Standard Time (EST). This meeting will be held virtually. Link to join will be available on the DIB's website. (Pre-meeting registration is required. See guidance in SUPPLEMENTARY INFORMATION, “Meeting Accessibility”).

FOR FURTHER INFORMATION CONTACT: Ms. Colleen Laughlin, (571) 372-0933 (Voice), colleen.r.laughlin.civ@mail.mil or osd.innovation@mail.mil (Email). Mailing address is Defense Innovation Board, 3030 Defense Pentagon, Room 5E572, Washington, DC 20301-3030. Website: http://innovation.defense.gov. The most up-to-date changes to the meeting agenda can be found on the website.

SUPPLEMENTARY INFORMATION: Due to circumstances beyond the control of the Department of Defense and the Designated Federal Officer (DFO) for the Defense Innovation Board, the Defense Innovation Board was unable to provide public notification required by 41 CFR 102-3.150(a) concerning its September 15, 2020 meeting. Accordingly, the Advisory Committee Management Officer for the Department of Defense, pursuant to 41 CFR 102-3.150(b), waives the 15-calendar day notification requirement. This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: To obtain, review, and evaluate information related to the Board's mission to address future challenges and accelerate innovation adoption into the culture, technologies, organizational structures, processes, and any other topics raised by the Secretary of Defense, the Deputy Secretary of Defense, the Chief Management Officer of the Department of Defense (CMO) (“the DoD Appointing Authorities”), or the Under Secretary of Defense for Research and Engineering (USD(R&E).

Agenda: The meeting will begin on September 15th 2020 at 12:30 p.m. ET with opening remarks by the DFO and the Board Chair. After opening remarks are presented, a DoD official will give a presentation and remarks on the importance of innovation in the Department. The Science and Technology subcommittee will brief its work on a recommendation concerning testing, evaluation, verification, and validation—TEVV—of autonomous systems, as well as a Congressionally-mandated assessment pursuant to the FY20 National Defense Authorization Act (NDAA) Section 862. The FY20 NDAA tasked the DIB to provide an independent assessment of the Department's progress in implementing acquisition training and management programs for all software acquisition professionals, software developers, and other appropriate individuals (as determined by the Secretary of Defense), to earn a certification in software development and software acquisition. The Board will deliberate and vote on these recommendations. The Workforce, Behavior, and Culture subcommittee co-chairs will then brief the Board on its work and recommendations on commercial sector hiring and workforce trends, largely driven by COVID-19, that the Department could consider to be more competitive for technical and digital talent. The Board will deliberate and vote on the recommendation. The Space Advisory Committee chair will then provide an update on the subcommittee's administrative status and mandate. The Board will then receive an update from the Department on the implementation status of its recommendations. The meeting will adjourn at 2:30 p.m. EST.

Meeting Accessibility: Pursuant to Federal statutes and regulations (the FACA, the Sunshine Act, and 41 CFR 102-3.140 through 102-3.165) and the availability of space, the meeting is open to the public from 12:30 p.m. to 2:30 p.m. EST. Members of the public wishing to attend the virtual meeting or wanting to receive a link to the live stream webcast should register on the Board website, http://innovation.defense.gov/meetings, no later than September 10, 2020. Members of the media should RSVP to the Office of the Assistant to the Secretary of Defense (Public Affairs), at osd.pentagon.pa.list.dop-atl@mail.mil.

Special Accommodations: Individuals requiring special accommodations to access the public meeting should contact the DFO; see the FOR FURTHER INFORMATION CONTACT section for contact information, no later than September 10, 2020, so that appropriate arrangements can be made.

Written Statements: Written comments may be submitted to the DFO via email to mailbox address: osd.innovation@mail.mil in either Adobe Acrobat or Microsoft Word format. Request that all comments be submitted by September 10. The DFO will compile all written submissions and provide them to Board members for consideration. Please note that because the Board operates under the provisions of the FACA, all submitted comments will be treated as public documents and will be made available for public inspection, including, but not limited to, being posted on the Board's website.

Dated: September 2, 2020.
Aaron T. Siegel,
Alternate OSD Federal Register Liaison Officer, Department of Defense.

[FR Doc. 2020-19802 Filed 9-4-20; 8:45 am]

BILLING CODE 5001-06-P